ENVIRONMENTAL PROTECTION AGENCY

[CERCLA-02-2019-2033; FRL-10011-82-Region 2]

Proposed CERCLA Cost Recovery Settlement for the Old Roosevelt Field Contaminated Groundwater Area Superfund Site, Town of Hempstead, Nassau County, New York

AGENCY: Environmental Protection Agency.

ACTION: Notice; request for public comment.

SUMMARY: In accordance with the Comprehensive Environmental Response, Compensation, and Liability Act of 1980, as amended (“CERCLA”), notice is hereby given by the U.S. Environmental Protection Agency (“EPA”), Region 2, of a proposed cost recovery settlement agreement pursuant to CERCLA with Johnson & Hoffman, LLC, Ansaco Properties One, LLC, and Ansaco, LLC (“Settling Parties”) for the Old Roosevelt Field Contaminated Groundwater Area Superfund Site (“Site”), Town of Hempstead, Nassau County, New York.

DATES: Comments must be submitted on or before August 5, 2020.

ADDRESSES: Comments can be sent via email to Elizabeth Leilani Davis at davis.leilani@epa.gov. Comments should reference the Old Roosevelt Field Contaminated Groundwater Area Superfund Site, Town of Hempstead, New York, Settlement Agreement for Recovery of Response Costs, Index No. CERCLA-02-2019-2033.

The proposed settlement is available for public inspection at this weblink: https://semspub.epa.gov/src/document/02/598770.

FOR FURTHER INFORMATION CONTACT: Elizabeth Leilani Davis, Attorney, Office of Regional Counsel, New York/Caribbean Superfund Branch, U.S. Environmental Protection Agency. Email: davis.leilani@epa.gov. Telephone: 212-637-3249.

SUPPLEMENTARY INFORMATION: Under the settlement, EPA will receive from the Settling Parties $207,000.00 in past response costs with respect to the Site. The settlement provides, in exchange for the above payment, a covenant not to sue by EPA or to take administrative action against the Settling Parties pursuant to sections 106 and 107(a) of CERCLA, 42 U.S.C. 9606 and 9607(a), with regard to the Site. For thirty (30) days following the date of publication of this document, EPA will receive written comments relating to the settlement. EPA will consider all comments received and may modify or withdraw its consent to the settlement if comments received disclose facts or considerations that indicate that the proposed settlement is inappropriate, improper, or inadequate. EPA's response to any comments received will be available for public inspection online and/or at EPA Region 2, 290 Broadway, New York, NY 10007-1866.

Pasquale Evangelista,
Director, Superfund & Emergency Management Division, U.S. Environmental Protection Agency, Region 2.

[FR Doc. 2020-14459 Filed 7-2-20; 8:45 am]

BILLING CODE 6560-50-P